DEPARTMENT OF THE INTERIOR

National Park Service

Notice of Availability of the Draft General Management Plan and Draft Environmental Impact Statement for the Niobrara National Scenic River, NE

AGENCY: National Park Service, Interior.

ACTION: Notice.

SUMMARY: Pursuant to section 102(2)(C) of the National Environmental Policy Act of 1969, the National Park Service (NPS) announces the availability of the draft general management plan and environmental impact statement (GMP/EIS) for the Niobrara National Scenic River (Scenic River).

DATES: The GMP/EIS will remain available for public review for 60 days following the publishing of the notice of availability in the Federal Register by the Environmental Protection Agency. Public meetings will be held in the cities of Omaha, Valentine, Ainsworth, and Lincoln, Nebraska. Meeting places and times will be announced by the local media.

ADDRESSES: Copies of the GMP/EIS are available by request by writing to the superintendent at Niobrara National Scenic River, P.O. Box 591, O'Neill, Nebraska 68763; by telephoning the park office at (402) 336-3970; or by e-mail, niob_administration@nps.gov. The document is also available to be picked up in person at the Scenic River's offices in O'Neill and Valentine. Finally, the document can be found on the Internet at the NPS Planning, Environment, and Public Comment (PEPC) Web site at: http://parkplanning.nps.gov/publicHome.cfm. This Web site allows the public to review and comment directly on this document.

FOR FURTHER INFORMATION CONTACT: Superintendent, Niobrara National Scenic River, P.O. Box 591, O'Neill, Nebraska 68763.

SUPPLEMENTARY INFORMATION: The Scenic River is an area of the national park system. The Scenic River extends 76 miles in Nebraska between the Borman Bridge southeast of Valentine to the Nebraska Highway 137 bridge north of Newport.

The GMP/EIS describes and analyzes the environmental impacts of the proposed management action and one other action alternative for the future management direction of the park, and the environmental impacts of the boundary alternatives. A no-action management alternative is also evaluated.

Our practice is to make comments, including names and home addresses of respondents, available for public review. Individual respondents may request that we withhold their home address from the record, which we will honor to the extent allowable by law. There may also be circumstances where we would withhold from the record a respondent's identity, as allowable by law. If you wish us to withhold your name and/or address, you must state this prominently at the beginning of your comment. However, we will not consider anonymous comments. We will make all submissions from organizations or businesses, and from individuals identifying themselves as representatives or officials or organizations or businesses, available for public inspection in their entirety.

Dated: April 29, 2005.
Ernest Quintana,
Regional Director, Midwest Region.

Editorial Note: This document was received in the Office of the Federal Register on July 18, 2005.

[FR Doc. 05-14352 Filed 7-20-05; 8:45 am]

BILLING CODE 4312-BM-P